DEPARTMENT OF COMMERCE

Economics and Statistics Administration

Bureau of Economic Analysis Advisory Committee

AGENCY: Bureau of Economic Analysis, DOC.

ACTION: Notice of public meeting.

SUMMARY: Pursuant to the Federal Advisory Committee Act (Public Law 92-463 as amended by Public Law 94-409, Public Law 96-523, and Public Law 97-375), we are giving notice of a meeting of the Bureau of Economic Analysis Advisory Committee. The meeting's agenda is as follows: 1. the National Income and Product Accounts (NIPA) and fiscal policy: the role of the NIPA in the Federal government macroeconomic forecasts, and in the budgets presented by the President and enacted by the Congress; 2. update Advisers on BEA's response to their earlier comments and suggestions; and 3. discussion of topics for future meeting agendas.

DATES: On Friday, May 3, 2002, the meeting will begin at 9:30 a.m. and adjourn at approximately 4 p.m.

ADDRESSES: The meeting will take place at the Bureau of Economic Analysis, 2nd floor, Conference Room A&B, 1441 L Street, NW., Washington, DC 20230.

FOR FURTHER INFORMATION CONTACT: James F. Plante, Chief, Public Information Office, Bureau of Economic Analysis, U.S. Department of Commerce, Washington, DC 20230; telephone number: (202) 606-9619.

Public Participation: This meeting is open to the public. Because of security procedures, anyone planning to attend the meeting must contact Verna Learnard of BEA at (202) 606-9690 in advance. The meeting is physically accessible to people with disabilities. Requests for sign language interpretation or other auxiliary aids should be directed to Robert Wehausen at (202) 606-9687.

SUPPLEMENTARY INFORMATION: The Committee was established on September 2, 1999, to advise the Bureau of Economic Analysis (BEA) on matters related to the development and improvement of BEA's national, regional, and international economic accounts. This will be the Committee's fifth meeting.

Dated: February 22, 2002.
Suzette Kern,
Associate Director for Management and Chief Administrative Officer.

[FR Doc. 02-4796 Filed 2-27-02; 8:45 am]

BILLING CODE 3510-06-P